DEPARTMENT OF TRANSPORTATION

Federal Aviation Administration

14 CFR Part 39

[Docket No. FAA-2009-0324; Directorate Identifier 2008-NM-186-AD; Amendment 39-16039; AD 2009-21-02]

RIN 2120-AA64

Airworthiness Directives; Airbus Model A300 B4-601, B4-603, B4-605R, B4-620, B4-622, B4-622R, F4-605R, F4-622R, and C4-605R Variant F Series Airplanes Equipped With Simmonds Precision Products, Inc., Fuel Quantity Indicating System Sensors and In-Tank Harnesses Installed in Accordance With Supplemental Type Certificate (STC) ST00092BO

AGENCY: Federal Aviation Administration (FAA), DOT.

ACTION: Final rule.

SUMMARY: We are adopting a new airworthiness directive (AD) for certain Airbus model series airplanes listed above. This AD requires revising the Airworthiness Limitations Section of the Instructions for Continuing Airworthiness to incorporate new fuel system limitations for airplanes modified in accordance with Supplemental Type Certificate (STC) ST00092BO. This AD also requires a general visual inspection for tank unit separation and compensator separation of the center, inner, and outer fuel tanks, and trim fuel tanks of the tank units, and corrective actions if necessary. This AD results from fuel system reviews conducted by the manufacturer. We are issuing this AD to prevent a potential of ignition sources inside fuel tanks, which in combination with flammable fuel vapors, could result in a fuel tank fire or explosion and consequent loss of the airplane.

DATES: This AD is effective December 1, 2009.

The Director of the Federal Register approved the incorporation by reference of a certain publication listed in the AD as of December 1, 2009.

ADDRESSES: For service information identified in this AD, contact Goodrich Corporation, Sensors and Integrated Systems (Formerly Fuel and Utility Systems), 100 Panton Road, Vergennes, Vermont 05491-1008; telephone 802-877-4476; e-mail sis.techpubs-vt@goodrich.com; Internet http://www.goodrich.com/TechPubs.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Marc Ronell, Aerospace Engineer, ANE-150, FAA, Boston Aircraft Certification Office, 12 New England Executive Park, Burlington, Massachusetts 01803; telephone (781) 238-7776; fax (781) 238-7170.

SUPPLEMENTARY INFORMATION:

Discussion

We issued a notice of proposed rulemaking (NPRM) to amend 14 CFR part 39 to include an airworthiness directive (AD) that would apply to certain Airbus Model A300 B4-601, B4-603, B4-605R, B4-620, B4-622, B4-622R, F4-605R, F4-622R, and C4-605R Variant F series airplanes. That NPRM was published in the Federal Register on April 9, 2009 (74 FR 16152). That NPRM proposed to require revising the Airworthiness Limitations Section (ALS) of the Instructions for Continuing Airworthiness to incorporate new fuel system limitations for airplanes modified in accordance with Supplemental Type Certificate (STC) ST00092BO. That NPRM also proposed to require a general visual inspection for tank unit separation and compensator separation of the center, inner, and outer fuel tanks, and trim fuel tanks of the tank units, and corrective actions if necessary.

Comments

We gave the public the opportunity to participate in developing this AD. We received no comments on the NPRM or on the determination of the cost to the public.

Actions Since NPRM Was Issued

Since we issued that NPRM, we have determined that it is necessary to clarify the AD's intended effect on spare and on-airplane fuel tank system components, regarding the use of maintenance manuals and instructions for continued airworthiness.

Section 91.403(c) of the Federal Aviation Regulations (14 CFR 91.403(c)) specifies the following:

No person may operate an aircraft for which a manufacturer's maintenance manual or instructions for continued airworthiness has been issued that contains an airworthiness limitation section unless the mandatory * * * procedures * * * have been complied with.

Some operators have questioned whether existing components affected by the new CDCCLs must be reworked. We did not intend for the AD to retroactively require rework of components that had been maintained using acceptable methods before the effective date of the AD. Owners and operators of the affected airplanes therefore are not required to rework affected components identified as airworthy or installed on the affected airplanes before the required revisions of the ALS. But once the CDCCLs are incorporated into the ALS, future maintenance actions on components must be done in accordance with those CDCCLs.

We have added Note 2 to this AD to clarify the intended effect of the AD on spare and on-airplane fuel tank system components.

Revision to Paragraph (h) of This AD

We removed a redundant reference to the service information, “in accordance with Section 2.2.3 of the Goodrich A300-600 Instructions for Continued Airworthiness, Document T3012-0005-0101, Revision B, dated June 12, 2008,” from paragraph (h) of this AD.

Revision to the Product Identification Line

We have revised the product identification line that precedes paragraph (a) of this AD to specify Airbus. For ADs that apply to STCs installed on only one type of airplane, we identify the name of the airplane manufacturer in the product identification line.

Revision to Paragraph (l) of this AD

We have revised paragraph (l) of this AD to include the phrase, “if done before the effective date of this AD.” This text was inadvertently omitted. It was our intention to provide credit for operators which have completed the inspections specified in paragraph (h) of this AD, before the effective date of this AD, using Goodrich Service Bulletin 300723-0101-28-01, Revision 1, dated July 1, 2004.

Conclusion

We reviewed the relevant data, and determined that air safety and the public interest require adopting the AD with the changes described previously. We also determined that these changes will not increase the economic burden on any operator or increase the scope of the AD.

Costs of Compliance

We estimate that this AD affects 68 airplanes of U.S. registry. We also estimate that it takes about 8 work-hours per product to comply with this AD. The average labor rate is $80 per work-hour. Based on these figures, we estimate the cost of this AD to the U.S. operators to be $43,520, or $640 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-21-02 Airbus: Amendment 39-16039. Docket No. FAA-2009-0324; Directorate Identifier 2008-NM-186-AD.

Effective Date

(a) This airworthiness directive (AD) is effective December 1, 2009.

Affected ADs

(b) This AD affects AD 2004-05-05, Amendment 39-13499.

Applicability

(c) This AD applies to Airbus Model A300 B4-601, B4-603, B4-605R, B4-620, B4-622, B4-622R, F4-605R, F4-622R, and C4-605R Variant F series airplanes, certificated in any category, equipped with Simmonds Precision Products, Inc., Fuel Quantity Indicating System sensors and in-tank harnesses installed in accordance with Supplemental Type Certificate (STC) ST00092BO.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (o) of this AD. The request should include a description of changes to the required inspections that will ensure the continued operational safety of the airplane.

Subject

(d) Air Transport Association (ATA) of America Code 28: Fuel.

Unsafe Condition

(e) This AD results from fuel system reviews conducted by the manufacturer. The Federal Aviation Administration is issuing this AD to reduce the potential of ignition sources inside fuel tanks, which in combination with flammable fuel vapors, could result in fuel tank fire or explosions and consequent loss of the airplane.

Compliance

(f) You are responsible for having the actions required by this AD performed within the compliance times specified, unless already done.

Revision to the Airworthiness Limitations Section To Incorporate Inspections

(g) Within 30 days after the effective date of this AD, revise the Airworthiness Limitations Section (ALS) of the Instructions for Continued Airworthiness to incorporate the inspections specified in Section 2.2.3 of the Goodrich A300-600 Instructions for Continued Airworthiness, Document T3012-0005-0101, Revision B, dated June 12, 2008.

Inspection for Correct Separation

(h) Within 6 months after the effective date of this AD, do a general visual inspection for tank unit separation and compensator separation of the center, inner, and outer fuel tanks, and trim fuel tanks of the tank units, in accordance with Section 2.2.3 of the Goodrich A300-600 Instructions for Continued Airworthiness, Document T3012-0005-0101, Revision B, dated June 12, 2008. If incorrect separation is found, before further flight, correct the separation in accordance with the Airplane Maintenance Manual for the corresponding inspection specified in Section 2.2.3 of the Goodrich A300-600 Instructions for Continued Airworthiness, Document T3012-0005-0101, Revision B, dated June 12, 2008. A review of airplane maintenance records is acceptable in lieu of this inspection if the requirement of Table 6 in Section 10.1 of the Goodrich A300-600 Instructions for Continued Airworthiness, Document T3012-0005-0101, Revision B, dated June 12, 2008, can be conclusively determined to have been done from that review.

Revision to the ALS To Incorporate CDCCLs

(i) Within 30 days after the effective date of this AD, revise the ALS of the Instructions for Continued Airworthiness to incorporate the CDCCLs, as defined in Section 10.1 of the Goodrich A300-600 Instructions for Continued Airworthiness,

Document T3012-0005-0101, Revision B, dated June 12, 2008.

(j) Except as provided by paragraph (o) of this AD: After accomplishing the actions specified in paragraphs (g) and (i) of this AD, no alternative inspection, inspection intervals, or CDCCLs may be used.

Note 2: Notwithstanding any other maintenance or operational requirements, components that have been identified as airworthy or installed on the affected airplanes before the revision of the Airworthiness Limitations Section of the Instructions for Continuing Airworthiness, as required by paragraph (i) of this AD, do not need to be reworked in accordance with the CDCCLs. However, once the Airworthiness Limitations Section of the Instructions for Continuing Airworthiness has been revised, future maintenance actions on these components must be done in accordance with the CDCCLs.

Actions Done According to Previous Service Information

(k) Inspections are acceptable for compliance with the requirements of paragraph (h) of this AD, if done before the effective date of this AD, in accordance with Goodrich Service Bulletin 300723-0101-28-01, dated April 15, 2004.

(l) Inspections are also acceptable for compliance with the requirements of paragraph (h) of this AD, if done before the effective date of this AD, in accordance with Goodrich Service Bulletin 300723-0101-28-01, Revision 1, dated July 1, 2004.

Acceptable Methods of Compliance for AD 2004-05-05

(m) Doing the inspections in Section 2.2.3 of the Goodrich A300-600 Instructions for Continued Airworthiness, Document T3012-0005-0101, Revision B, dated June 12, 2008, is considered an acceptable method of compliance with paragraphs (b) and (c) of AD 2004-05-05.

(n) Doing the inspections in accordance with Goodrich Service Bulletin 300723-0101-28-01, Revision 1, dated July 1, 2004, is an acceptable method of compliance with paragraphs (b) and (c) of AD 2004-05-05.

Alternative Methods of Compliance (AMOCs)

(o)(1) The Manager, Boston Aircraft Certification Office (ACO), FAA, has the authority to approve AMOCs for this AD, if requested using the procedures found in 14 CFR 39.19. Send information to ATTN: Marc Ronell, Aerospace Engineer, ANE-150, FAA, Boston ACO, 12 New England Executive Park, Burlington, Massachusetts 01803; telephone (781) 238-7776; fax (781) 238-7170.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(p) You must use Goodrich A300-600 Instructions for Continued Airworthiness, Document T3012-0005-0101, Revision B, dated June 12, 2008, to do the actions required by this AD, unless the AD specifies otherwise. (The List of Effective Pages section of this document does not include pages iii, 6, 15, and 16 of this document. Those pages are also at Revision B, dated June 12, 2008.)

(1) The Director of the Federal Register approved the incorporation by reference of this service information under 5 U.S.C. 552(a) and 1 CFR part 51.

(2) For service information identified in this AD, contact Goodrich Corporation, Sensors and Integrated Systems (Formerly Fuel and Utility Systems), 100 Panton Road, Vergennes, Vermont 05491-1008; telephone 802-877-4476; e-mail sis.techpubs-vt@goodrich.com; Internet http://www.goodrich.com/TechPubs.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on September 18, 2009.
Ali Bahrami,
Manager, Transport Airplane Directorate, Aircraft Certification Service.

[FR Doc. E9-24011 Filed 10-26-09; 8:45 am]

BILLING CODE 4910-13-P